DEPARTMENT OF THE TREASURY

Alcohol and Tobacco Tax and Trade Bureau

27 CFR Part 9

[Notice No. 90; Docket No. TTB-2008-0009]

RIN 1513-AB57

Proposed Expansions of the Russian River Valley and Northern Sonoma Viticultural Areas (2008R-031P)

AGENCY: Alcohol and Tobacco Tax and Trade Bureau, Treasury.

ACTION: Notice of proposed rulemaking.

SUMMARY: The Alcohol and Tobacco Tax and Trade Bureau proposes to expand the Russian River Valley and Northern Sonoma American viticultural areas in Sonoma County, California. The Russian River Valley viticultural area proposed expansion of 14,044 acres would increase the size of that viticultural area to 169,028 acres. The Northern Sonoma viticultural area proposed expansion of approximately 44,244 acres would increase the size of that viticultural area to 394,088 acres. We designate viticultural areas to allow vintners to better describe the origin of their wines and to allow consumers to better identify wines they may purchase. We invite comments on this proposed change to our regulations.

DATES: We must receive written comments on or before October 20, 2008.

ADDRESSES: You may send comments to any of the following addresses:

• http://www.regulations.gov (via the online comment form for this notice as posted within Docket No. TTB-2008-0009 at “Regulations.gov,” the Federal e-rulemaking portal); or

• Director, Regulations and Rulings Division, Alcohol and Tobacco Tax and Trade Bureau, P.O. Box 14412, Washington, DC 20044-4412.

See the Public Participation section of this notice for specific instructions and requirements for submitting comments, and for information on how to request a public hearing.

You may view copies of this notice, selected supporting materials, and any comments we receive about this proposal at http://www.regulations.gov within Docket No. TTB-2008-0009. A link to that docket is posted on the TTB Web site at http://www.ttb.gov/wine/wine_rulemaking.shtml under Notice No. 90. You also may view copies of this notice, all related petitions, maps or other supporting materials, and any comments we receive about this proposal by appointment at the TTB Information Resource Center, 1310 G Street, NW., Washington, DC 20220. Please call 202-927-2400 to make an appointment.

FOR FURTHER INFORMATION CONTACT: Jennifer Berry, Alcohol and Tobacco Tax and Trade Bureau, Regulations and Rulings Division, P.O. Box 18152, Roanoke, VA 24014; telephone (540) 344-9333.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act requires that these regulations, among other things, prohibit consumer deception and the use of misleading statements on labels, and ensure that labels provide the consumer with adequate information as to the identity and quality of the product. The Alcohol and Tobacco Tax and Trade Bureau (TTB) administers the regulations promulgated under the FAA Act.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Petitioners may use the same procedure to request changes involving existing viticultural areas. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features that distinguish the proposed viticultural area from surrounding areas;

• A description of the specific boundary of the proposed viticultural area, based on features found on United States Geological Survey (USGS) maps; and

• A copy of the appropriate USGS map(s) with the proposed viticultural area's boundary prominently marked.

Russian River Valley Expansion Petition

Gallo Family Vineyards submitted a petition proposing a 14,044-acre expansion of the established Russian River Valley viticultural area (27 CFR 9.66). The proposed expansion would increase the established viticultural area's acreage by approximately 9 percent, to 169,028 acres. The petitioner explains that approximately 550 acres of the proposed expansion area were planted to grapes at the time of this petition. The petitioner's Two Rock Ranch Vineyard, with 350 acres planted to grapes, lies near the southern end of the proposed expansion area.

The Russian River Valley viticultural area is located approximately 50 miles north of San Francisco in central Sonoma County, California. The viticultural area was originally established by Treasury Decision (T.D.) ATF-159, published in the Federal Register (48 FR 48813) on October 21, 1983. It was expanded by 767 acres in T.D. TTB-7, published in the Federal Register (68 FR 67370) on December 2, 2003, and again by 30,200 acres in T.D. TTB-32, published in the Federal Register (70 FR 53299) on September 8, 2005. Although T.D. TTB-32 states that after the 2005 expansion the viticultural area covered 126,600 acres, the current petition provides information updating the present size of the viticultural area to a total of 154,984 acres.

The current Russian River Valley viticultural area, with the exception of its southern tip, lies within the Northern Sonoma viticultural area (27 CFR 9.70). The Northern Sonoma viticultural area, in turn, lies largely within the Sonoma Coast viticultural area (27 CFR 9.116). The Northern Sonoma and Sonoma Coast viticultural areas are both entirely within the North Coast viticultural area (27 CFR 9.30).

The current Russian River Valley viticultural area also entirely encompasses two smaller viticultural areas—in its northeastern corner, the Chalk Hill viticultural area (27 CFR 9.52), and in the southwest, the Green Valley of Russian River Valley viticultural area (27 CFR 9.57).

According to the petition, the proposed expansion would extend the current viticultural area boundary south and east, encompassing land just west of the cities of Rohnert Park and Cotati. The proposed expansion area lies within the Sonoma Coast and North Coast viticultural areas but not within the Northern Sonoma viticultural area. According to the petition, the proposed expansion area lies almost entirely within the Russian River Valley watershed, is historically part of the Russian River Valley, and shares all the significant distinguishing features of the Russian River Valley viticultural area.

Name Evidence

The petitioner states that the proposed expansion area is widely recognized as part of the Russian River watershed, a key criterion cited in past rulemaking documents regarding the existing viticultural area. T.D. ATF-159 states that the Russian River Valley viticultural area “includes those areas through which flow the Russian River or some of its tributaries * * *.” Moreover, the petitioner contends that before the establishment of the current viticultural area boundary, the proposed expansion area was commonly considered part of the Russian River Valley.

The petitioner includes several pieces of evidence showing the expansion area's inclusion in the Russian River watershed. A submitted map shows that almost all the proposed expansion area lies within the Russian River watershed (see “The California Interagency Watershed Map of 1999,” published by the California Resources Agency, updated 2004). The petitioner notes that drainage is through the Laguna de Santa Rosa waterway beginning near the east side of the proposed expansion area and flowing west and north through the current viticultural area. Thus, the waterway provides a common connection between the two areas.

The petitioner includes an informational brochure published by the Russian River Watershed Association (RRWA), an association of local governments and districts that coordinates regional programs to protect or improve the quality of the Russian River watershed. A map in the brochure shows that the watershed comprises both the current viticultural area and the area covered by the proposed expansion.

The petitioner submits a letter in which the RRWA asks the California Department of Transportation to place a sign marking the southern boundary of the Russian River watershed at a point on northbound Highway 101 near the City of Cotati in Sonoma County, California. This point is on the southeastern boundary of the proposed expansion area. The petitioner notes that the State has installed the requested sign and a sign at another point on the southern boundary of the proposed expansion area.

Also submitted with the petition is 2002 water assessment data published by the U.S. Environmental Protection Agency. This data includes the expansion area in its assessment of the Russian River watershed. Finally, the petitioner includes a Russian River Valley area tourism map that encompasses the proposed expansion area (see “Russian River Map,” (http://russianrivertravel.com/)).

Several documents relating to the agricultural and economic history of Sonoma County were also submitted by the petitioner. The petitioner states that they show that the proposed expansion area and the current viticultural area share a history of grape growing. For example, an 1893 survey compares the yields of individual grape growers in the established viticultural area with those of growers in the proposed expansion area (see “History of the Sonoma Viticultural District,” by Ernest P. Peninou, Nomis Press, 1998). The petitioner asserts that this document clearly shows that growers in the two areas grew similar grape varieties under similar growing conditions with similar yields.

A letter from Robert Theiller submitted with the petition describes the family-owned Xavier Theiller Winery. The winery, now defunct, operated in the proposed expansion area from 1904 to 1938. According to Mr. Theiller, it crushed grapes from both the area encompassed by the current Russian River Valley viticultural area and the area covered by the proposed expansion. The letter specifically states that “* * * people involved in grape growing and other agriculture in the area of the winery knew that [the proposed expansion area] was part of the Russian River Valley.”

The petition also includes a letter from wine historian William F. Heintz. Mr. Heintz is the author of “Wine and Viticulture History of the Region Known as the Russian River Appellation” (Russian River Valley Winegrowers, 1999). In his letter, Mr. Heintz writes:

I agree with the observation in your petition that the proposed expansion area and the main part of the Russian River Valley viticultural area, which lies to the north, have historically been part of one region in terms of common climate and geographic features, settlement, and the development of agriculture and transportation. For these reasons, I have always considered the proposed expansion area and the area to the north that is in the current Russian River Valley viticultural area to belong together. In my opinion, the proposed expansion area is part of the same historical district as the existing Russian River Valley viticultural area.

Boundary Evidence

According to the petitioner, the 2005 expansion created an artificial line for the southeast boundary. Proceeding south down the U.S. 101 corridor, it abruptly turns due west at Todd Road. Consequently, on a map, the Russian River Valley viticultural area appears to have had a “bite” taken out of its southeastern corner despite the fact that it and the proposed expansion area share common features of climate, soil, and watershed.

The proposed expansion would change the southeastern boundary of the current Russian River Valley viticultural area. At a point where the current southern boundary now abruptly turns north, the proposed new boundary line would generally continue to follow the defining ridge on the southern flank of the Russian River watershed. It would turn north at U.S. 101, eventually meeting the southeast corner of the existing boundary, adding an area almost entirely within the Russian River watershed.

Distinguishing Features

Climate

Past rulemakings regarding the Russian River Valley viticultural area have stated that coastal fog greatly affects the area's climate. T.D. TTB-32 at 70 FR 53298 states, for example, that “Fog is the single most unifying and significant feature of the previously established Russian River Valley viticultural area.” The petitioner states that the proposed expansion area lies directly in the path of the fog that moves from the ocean into southern and central Sonoma County; thus, the same fog influences both the proposed expansion area and the current viticultural area. Consequently, there is no “fog line” dividing the current viticultural area and the proposed expansion area, according to the petitioner.

The petitioner provides a report showing the effect of the fog on the climate of the current viticultural area and proposed expansion area (see “Sonoma County Climatic Zones,” Paul Vossen, University of California Cooperative Extension Service, Sonoma County, 1986 (http://cesonoma.ucdavis.edu/)). The report describes the fog as passing through the Petaluma Gap and into the expansion area, as follows:

The major climatic influence in Sonoma County is determined by the marine (ocean) air flow and the effect of the geography diverting that air flow. During an average summer there are many days when fog maintains a band of cold air all around the coastline and cool breezes blow a fog bank in through the Petaluma Gap northward toward Santa Rosa and northwestward toward Sebastopol. This fog bank is accompanied by a rapid decrease in temperature which can be as much as 50 °F.

Additionally, the petitioner provides an online article delineating the presence of fog in the proposed expansion area (“Fog Noir,” by Rod Smith, September/October 2005 at http://www.privateclubs.com/Archives/2005-sept-oct/wine_fog-noir.htm. The article describes satellite images of fog moving through the Russian River Valley, as follows:

Until recently everyone assumed that the Russian River itself drew the fog inland and distributed it over the terrain west of Santa Rosa. Supplemental fog, it was thought, also came in from the southwest over the marshy lowlands along the coast between Point Reyes and Bodega Bay—the so-called Petaluma Wind Gap.

In fact, it now appears to be the other way around. A new generation of satellite photography, sensitive enough to pick up translucent layers of moist air near the ground, shows for the first time the movement of the fog throughout the Russian River Valley region.

* * * * *

In Bobbitt's snapshot, the fog pours, literally pours, through the Petaluma Gap. The ocean dumps it ashore and the inland heat sink reels it in * * *.

According to the petitioner, the proposed expansion area also has the same “coastal cool” climate as the current Russian River Valley viticultural area. T.D. ATF-159, T.D. TTB-7, and T.D. TTB-32 refer to the Winkler degree-day system, which classifies climatic regions for grape growing. In the Winkler system, heat accumulation is measured during the typical grape-growing season from April to October. One degree day accumulates for each degree Fahrenheit that a day's mean temperature is above 50 degrees, the minimum temperature required for grapevine growth (see “General Viticulture,” Albert J. Winkler, University of California Press, 1974). As noted in T.D. ATF-159, the Russian River Valley viticultural area is termed “coastal cool” and has an annual range of 2,000 to 2,800 degree days.

The petitioner concedes that the “Sonoma County Climate Zones” report cited above would place most of the proposed expansion area and part of the 2005 expansion area within the “marine” zone, instead of the warmer coastal cool zone. However, the petitioner argues that at the time of the 2005 expansion, TTB recognized that more current information had superseded the information in the 1986 report. Further, the petitioner argues that climate information included in the petition and presented below shows that the proposed expansion area actually has a coastal cool climate.

Using the Winkler system, the petitioner provides a table that includes a complete degree day data set for the April through October growing season at seven vineyards, including the petitioner's Two Rock Ranch Vineyard in the southern part of the proposed expansion area. The table is reproduced below.

Average Growing Season 1983-2005
[The 2005 expansion used 2001 climate data]
Vineyard | Annual degree days | Establishment of area
Osley West | 2,084 | 2005 expansion.
Two Rock Ranch | 2,227 | Proposed expansion.
Bloomfield | 2,332 | 2005 expansion.
Laguna Ranch | 2,403 | 1983 establishment.
Osley East | 2,567 | 2005 expansion.
MacMurray Ranch | 2,601 | 1983 establishment.
Le Carrefour | 2,636 | 2005 expansion.

The petitioner states that the table shows that all seven vineyards, including the Two Rock Ranch in the proposed expansion area, fall within the coastal cool climate range of 2,000 to 2,800 annual degree days. The petitioner notes the consistency of the degree day data for the 1983 establishment of the viticultural area, the 2005 expansion, and the current proposed expansion. The petitioner states that the degree day data in the table shows that the proposed expansion area has the same climate as the current Russian River Valley viticultural area. Further, the petitioner provides a raster map showing that annual average degree days in the proposed expansion area are within the same range as much of the existing viticultural area (see “Growing Degree Days” for Sonoma County (1951-80 average), published by the Spatial Climate Analysis Service, Oregon State University (http://www.ocs.oregonstate.edu/index.html)).

The petitioner notes that the annual average number of hours between 70 and 90 degrees Fahrenheit during the April through October growing season for 1996-98 at the Two Rock Ranch Vineyard was 940 hours. Based on the “Sonoma County Climatic Zones” map, this average lies within the 800- to 1100-hour range that characterizes the coastal cool zone. The marine zone has fewer than 800 hours between 70 and 90 degrees Fahrenheit during the growing season.

The petitioner submits a report, written at the request of the petitioner, that includes a detailed analysis of the climate of the proposed expansion area. The petitioner requested expert commentary on the proposed expansion area and states that the report's author, Patrick L. Shabram, geographic consultant, has extensive experience in Sonoma County viticulture.

Mr. Shabram disputes the idea that the proposed expansion area is in a marine climate zone. Mr. Shabram cites three main factors in support of a determination that the climate zone of the proposed expansion area is not marine. First, successful viticulture would not be possible in a true marine zone because of insufficient solar radiation. Second, the proposed expansion area is well inland as compared to the rest of the marine zone; climatic conditions in the proposed expansion area would not be characteristic of a marine zone. Finally, Mr. Shabram states that the petitioner's climate data (summarized above) “* * * clearly demonstrates that the area should be classified as `Coastal Cool,' rather than the Marine climate type.”

Mr. Shabram provided the petitioner with a map that depicts all the proposed expansion area as belonging to the coastal cool zone (see “Revised Sonoma County Climatic Zones of the Russian River Valley Area,” by Patrick L. Shabram, 2007, based on “Sonoma County Climatic Zones” and “Revised Coastal Cool/Marine Climate Zones Boundary,” by Patrick L. Shabram).

Topography and Elevation

According to the petitioner, the southernmost portion of the proposed expansion area is on the “Merced Hills” of the Wilson Grove formation. These are gently rolling hills dominantly on 5 to 30 percent slopes. The current Russian River Valley viticultural area does not encompass these hills; the proposed expansion area includes a portion of them.

The northern portion of the proposed expansion area comprises the essentially flat Santa Rosa Plain. The plain is consistent with the portion of the current Russian River Valley viticultural area that wraps around both the west and north sides of the proposed expansion. Elevations in the proposed expansion area range from 715 feet down to 75 feet above sea level. They are similar to those in adjoining areas of the current Russian River Valley viticultural area.

Soils and Geology

The petitioner discusses the similarities between the soils of the proposed expansion area and those of the current viticultural area based on a soil association map (see “Soil Survey of Sonoma County, California,” online, issued by the U.S. Department of Agriculture, Natural Resources Conservation Service (http://websoilsurvey.nrcs.usda.gov/app/)). The soils on the Merced Hills included in the proposed expansion area formed mainly in sandstone rocks of the underlying Wilson Grove formation. This formation is characterized by low lying, rolling hills beginning just south of the Russian River near Forestville, arching southeast through Sebastopol, and ending at Penngrove. It formed 3 to 5 million years ago under a shallow sea. According to the petitioner, the soils underlain by this formation are well suited to growing grapes in vineyards.

The petitioner provides the following quotation discussing the suitability of the soils to growing grapes in the proposed expansion area:

The sandy loam soils of the apple-growing region of Gold Ridge-Sebastopol form as a direct result of breakdown of Wilson Grove rock. The low ridge running from Forestville to Sebastopol and south to Cotati is the classic terroir of this association, now being recognized as prime land and climate for Pinot Noir and Chardonnay. (“Diverse Geology/Soils Impact Wine Quality,” by Terry Wright, Professor of Geology, Sonoma State University, Practical Winery & Vineyard, September/October 2001, Vol. XXIII, No. 2.)

The petitioner notes that the Wilson Grove formation underlies the current Russian River Valley viticultural area, but the current southeastern border cuts north to south through the formation, midway between Sebastopol and Cotati. However, the soil associations on either side of the southeastern border of the current Russian River Valley viticultural area are identical. The Goldridge-Cotati-Sebastopol soil association is nearly continuous throughout the formation. The petitioner reports that areas of Sebastopol sandy loam are in the Laguna Ranch Vineyard just north of the town of Sebastopol (in the current viticultural area) and also in the Two Rock Ranch Vineyard in the proposed expansion area, just west of the town of Cotati.

The petitioner states that the Clear Lake-Reyes association is in the portion of the proposed expansion area north of the Merced Hills. The soils in this association are poorly drained, nearly level to gently sloping clays and clay loams in basins. They are in the southeast portion of the Santa Rosa plain and also in pockets further north, almost directly west of the city of Santa Rosa. The Huichica-Wright-Zamora association is further north in the proposed expansion area. The soils of this association are somewhat poorly drained to well drained, nearly level to strongly sloping loams to silty loams on low bench terraces and alluvial fans. They are common in the middle and northern portions of the Santa Rosa plain. They are predominant in the eastern portion of the current Russian River Valley viticultural area, including the city of Santa Rosa, and in the proposed expansion area.

The petitioner notes that the “Soil Survey of Sonoma County, California” soil association map cited above shows that the current viticultural area boundary arbitrarily cuts directly through four major soil associations: Goldridge-Cotati-Sebastopol, Clear Lake-Reyes, Steinbeck-Los Osos, and Huichica-Wright-Zamora. The soils and the geology in the proposed expansion area are nearly identical to those in the adjacent areas of the current Russian River Valley viticultural area.

TTB notes that T.D. ATF-159, which established the Russian River Valley viticultural area, does not identify any predominant soils or indicate any unique soils of the viticultural area.

Grape Brix Comparison

The petitioner compares Brix for grapes grown in both the current viticultural area and the proposed expansion area. Brix is the quantity of dissolved solids in grape juice, expressed as grams of sucrose in 100 grams of solution at 60 degrees Fahrenheit (see 27 CFR 24.10); thus, Brix is the percent of sugar by weight. Citing a brochure published by the Russian River Winegrowers Association, the petitioner notes that Pinot Noir and Chardonnay are the two most prominent grape varieties grown in the established Russian River Valley viticultural area. The successful cultivation of the Pinot Noir grape, in particular, has been considered a hallmark of the Russian River Valley viticultural area, and the Pinot Gris grape variety recently has been growing in popularity.

Data submitted with the petition shows the 4-year average Brix comparisons for the period 2003-6 for the Pinot Noir, Chardonnay, and Pinot Gris varieties among three vineyards in the current Russian River Valley viticultural area and the Two Rock Ranch Vineyard in the proposed expansion area (see table below). The petitioner asserts that the Brix levels for each variety at all of the vineyards are very similar, reflecting similar growing conditions for the grapes.

2003-6 Average Brix for Some Winegrapes Grown on Ranches in the Current Viticultural Area and the Proposed Viticultural Area
Ranch | Average Brix: Pinot Noir | Average Brix: Chardonnay | Average Brix: Pinot Gris
Laguna North | 25.04 | 23.79 |
Del Rio | 26.69 | 23.24 | 24.68
MacMurray | 25.77 |  | 24.71
Two Rock* | 25.80 | 23.55 | 24.14
* Located in the proposed viticultural area.

In addition to the petition evidence summarized above, the petition includes six letters of support from area grape growers and winery owners. The supporters generally state their belief that the proposed expansion area has the same grape growing conditions as the current Russian River Valley viticultural area. The petition also includes a “Petition of Support: Russian River Valley AVA Expansion” with 208 signatures.

Opposition to the Proposed Expansion

Prior to and during review of the petition for the proposed expansion, TTB received by mail, facsimile transmission, and e-mail more than 50 pieces of correspondence opposing the petitioner's proposed expansion. The correspondence generally asserts that the proposed expansion area falls outside the coastal fog line and thus has a different climate than that of the current viticultural area. The opponents of the proposed expansion are mostly vineyard or winery owners from the current viticultural area. Several of them state that even though grapes grown in the proposed expansion area “may eventually be brought to similar Brix, pH and total acidity maturity, the bloom and harvest dates are much later than in the Russian River Valley.” TTB, while noting this opposing correspondence, also notes that the assertions in the correspondence were not accompanied by any specific data that contradicts the petitioner's submitted evidence.

Northern Sonoma Expansion

TTB notes that the current boundaries of the Russian River Valley viticultural area and of the Green Valley of Russian River Valley viticultural area (which lies entirely within the Russian River Valley area) extend beyond the Northern Sonoma viticultural area boundary to the south and southeast; in the case of the Russian River Valley viticultural area, this was as a result of the 30,200-acre, 2005 expansion approved in T.D. TTB-32. The currently proposed 14,044-acre expansion of the Russian River Valley viticultural area similarly is outside the boundary line of the Northern Sonoma viticultural area.

TTB also proposes in this document a southern and southeastern expansion of the Northern Sonoma viticultural area boundary line to encompass all of the Russian River Valley viticultural area, including the currently proposed expansion of the Russian River Valley viticultural area, so that all of the Russian River Valley viticultural area would again fall within the Northern Sonoma viticultural area, as was the case prior to the 2005 expansion. The Northern Sonoma viticultural area would increase in size by 44,244 acres to 394,088 acres, or by 9 percent. The following information is provided in support of this proposed expansion.

Name and Boundary Evidence

The Northern Sonoma viticultural area was established on May 17, 1985, by T.D. ATF-204 (50 FR 20560), which stated at 50 FR 20562:

* * * Six approved viticultural areas are located entirely within the Northern Sonoma viticultural area as follows: Chalk Hill, Alexander Valley, Sonoma County Green Valley [subsequently renamed Green Valley of Russian River Valley], Dry Creek Valley, Russian River Valley, and Knights Valley.

The Sonoma County Green Valley and Chalk Hill areas are each entirely within the Russian River Valley area. The boundaries of the Alexander Valley, Dry Creek Valley, Russian River Valley, and Knights Valley areas all fit perfectly together dividing northern Sonoma County into four large areas. The Northern Sonoma area uses all of the outer boundaries of those four areas with the exception of an area southwest of the Dry Creek Valley area and west of the Russian River Valley area.

The originally established Northern Sonoma viticultural area was expanded by T.D. ATF-233, published in the Federal Register on August 26, 1986 (51 FR 30352) and, again, by T.D. ATF-300, published in the Federal Register on August 9, 1990 (55 FR 32400).

The current southern portion of the boundary line of the Northern Sonoma viticultural area, west to east, follows California State Highway 12 from its intersection with Bohemian Highway, through the town of Sebastopol, to its intersection with Fulton Road. Although T.D. ATF-204 does not explain the basis for the choice of California State Highway 12 as the southern portion of the Northern Sonoma boundary line, TTB notes that at that time California State Highway 12 also formed the southern portion of the boundary line of the Russian River Valley viticultural area.

T.D. ATF-204 included information regarding the geographical meaning of “Northern Sonoma” as distinct from the rest of Sonoma County. Although a Web search conducted by TTB failed to disclose conclusive information regarding current nonviticultural usage of “Northern Sonoma” as a geographical term, a Web search for “Southern Sonoma County” did disclose specific geographical data. The Southern Sonoma County Resource Conservation District (SCC-RCD) Web site has Sonoma County maps and describes the district as including the “southern slopes of Mecham Hill” (alternative spelling of “Meacham,” as on the USGS map), as the northern portion of the Petaluma River watershed in southern Sonoma County. Meacham Hill, according to the USGS Cotati map, lies 1.25 miles southeast of the area included in the expansion of the Northern Sonoma viticultural area proposed in this document. Further, the SCC-RCD maps show that the southern Sonoma County watershed excludes the Gold Ridge District, which comprises much of the Russian River watershed, including the Russian River Valley viticultural area and the area proposed in this document to be added to it.

Sonoma County Relocation, a real estate service, defines southern Sonoma County as extending south from the town of Penngrove. According to the USGS Cotati map, Penngrove lies 2.4 miles east-southeast of the proposed expansion of the Northern Sonoma viticultural area boundary line. The City of Petaluma, the southernmost large population center in Sonoma County, lies 6 miles southeast of the proposed expansion to the Northern Sonoma viticultural area.

Based on the above, we believe it is reasonable to conclude that the name “Northern Sonoma”, as distinct from southern Sonoma County, includes all of the Russian River Valley viticultural area, including the proposed expansion of that area that is the subject of this document.

Distinguishing Features

According to the USGS Sonoma County topographical map, the topography of the area that would be included in the proposed expansion of the Northern Sonoma viticultural area has only a few gently rolling hills and ridges in the large region known as “Cotati Valley.” The topography of the expansion area mirrors the valley terrain that is to its north and that is within the original boundary line.

TTB Determinations

TTB concludes that the petition to expand the 155,024-acre Russian River Valley viticultural area by 14,044 acres merits consideration and public comment, as invited in this notice. TTB also concludes that the expansion of the Northern Sonoma viticultural area to conform its southern and southeastern boundary line to that of the expanded Russian River Valley viticultural area merits consideration and public comment.

Boundary Description

See the narrative boundary descriptions of the petitioned-for expansion of the Russian River Valley viticultural area and the TTB-proposed expansion of the Northern Sonoma viticultural area in the proposed § 9.66 and § 9.70 regulatory text amendments published at the end of this notice.

Maps

The petitioner provided the required map to document the proposed expansion of the Russian River Valley viticultural area, and we list it below in the proposed § 9.66 regulatory text amendment. TTB relied on maps provided for the 2005 expansion of the Russian River Valley viticultural area and the map provided by the petitioner for the current expansion to document the boundary description for the proposed expansion of the Northern Sonoma viticultural area. A revised and expanded list of maps is included in the proposed § 9.70 regulatory text amendment.

Impact on Current Wine Labels

The proposed expansions of the Russian River Valley and Northern Sonoma viticultural areas will not affect currently approved wine labels. The approval of this proposed expansion may allow additional vintners to use “Russian River Valley” or “Northern Sonoma” as an appellation of origin on their wine labels. Part 4 of the TTB regulations prohibits any label reference on a wine that indicates or implies an origin other than the wine's true place of origin. For a wine to be eligible to use a viticultural area name as an appellation of origin or a term of viticultural significance in a brand name, at least 85 percent of the wine must be derived from grapes grown within the area represented by that name or term, and the wine must meet the other conditions listed in 27 CFR 4.25(e)(3). Different rules apply if a wine has a brand name containing a viticultural area name or other viticulturally significant term that was used as a brand name on a label approved before July 7, 1986. See 27 CFR 4.39(i)(2) for details.

Public Participation

Comments Invited

We invite comments from interested members of the public on whether we should expand the Russian River Valley viticultural area as described above. We specifically request comment on the similarity of the proposed expansion area to the current Russian River Valley viticultural area. In particular, we would like comments on the climate of the proposed Russian River Valley viticultural area expansion area as compared to that of the current viticultural area and on the placement of the boundary lines for the proposed expansion.

We also invite comments on the proposed expansion to the Northern Sonoma viticultural area as described in this document. Specifically, we are interested in comments that address this proposed expansion as it relates to the 2005 expansion and to the current proposed expansion of the Russian River Valley viticultural area.

Whether in favor of, or in opposition to, either of the proposed expansions, you should support any comments made with specific data or other appropriate information about the name, proposed boundaries, or distinguishing features of the proposed expansion area.

Submitting Comments

You may submit comments on this notice by using one of the following two methods:

• Federal e-Rulemaking Portal: You may send comments via the online comment form posted with this notice within Docket No. TTB-2008-0009 on “Regulations.gov,” the Federal e-rulemaking portal, at http://www.regulations.gov. A direct link to that docket is available under Notice No. 90 on the TTB Web site at http://www.ttb.gov/wine/wine_rulemaking.shtml. Supplemental files may be attached to comments submitted via Regulations.gov. For complete instructions on how to use Regulations.gov, visit the site and click on “User Guide” under “How to Use this Site.”

• U.S. Mail: You may send comments via postal mail to the Director, Regulations and Rulings Division, Alcohol and Tobacco Tax and Trade Bureau, P.O. Box 14412, Washington, DC 20044-4412.

Please submit your comments by the closing date shown above in this notice. Your comments must reference Notice No. 90 and include your name and mailing address. Your comments also must be made in English, be legible, and be written in language acceptable for public disclosure. We do not acknowledge receipt of comments, and we consider all comments as originals.

If you are commenting on behalf of an association, business, or other entity, your comment must include the entity's name as well as your name and position title. If you comment via Regulations.gov, please enter the entity's name in the “Organization” blank of the online comment form. If you comment via postal mail, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

We will post, and you may view, copies of this notice, selected supporting materials, and any online or mailed comments we receive about this proposal within Docket No. TTB-2008-0009 on the Federal e-rulemaking portal, Regulations.gov, at http://www.regulations.gov. A direct link to that docket is available on the TTB Web site at http://www.ttb.gov/wine/wine_rulemaking.shtml under Notice No. 90. You may also reach the relevant docket through the Regulations.gov search page at http://www.regulations.gov. For instructions on how to use Regulations.gov, visit the site and click on “User Guide” under “How to Use this Site.”

All posted comments will display the commenter's name, organization (if any), city, and State, and, in the case of mailed comments, all address information, including e-mail addresses. We may omit voluminous attachments or material that we consider unsuitable for posting.

You also may view copies of this notice, all related petitions, maps and other supporting materials, and any electronic or mailed comments we receive about this proposal by appointment at the TTB Information Resource Center, 1310 G Street, NW., Washington, DC 20220. You may also obtain copies at 20 cents per 8.5 x 11-inch page. Contact our information specialist at the above address or by telephone at 202-927-2400 to schedule an appointment or to request copies of comments or other materials.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866. Therefore, it requires no regulatory assessment.

Drafting Information

Jennifer Berry drafted this notice. Other staff members of the Regulations and Rulings Division contributed to the notice.

List of Subjects in 27 CFR Part 9

Wine.

Proposed Regulatory Amendment

For reasons discussed in the preamble, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Section 9.66 is amended:

a. In paragraph (b), by removing the word “and” at the end of paragraph (b)(9), by removing the word “, and” at the end of paragraph (b)(10) and adding, in its place, a semicolon, by removing the period at the end of paragraph (b)(11) and adding, in its place, the word “and” preceded by a semicolon, and by adding a new paragraph (b)(12); and

b. In paragraph (c), by revising paragraphs (c)(15) through (c)(19), by redesignating paragraphs (c)(20) through (c)(34) as paragraphs (c)(26) through (c)(40), and by adding new paragraphs (c)(20) through (c)(25).

The additions and revision read as follows:

§ 9.66 Russian River Valley.

* * * * *

(b) * * *

(12) Cotati Quadrangle, California—Sonoma Co., scale 1:24 000, 1954, Photorevised 1980.

(c ) * * *

(15) Proceed southeast 0.5 mile, crossing over the end of an unnamed, unimproved dirt road to an unnamed 524-foot elevation peak, T6N, R8W, on the Two Rock map.

(16) Proceed southeast 0.75 mile in a straight line to the intersection of an unnamed unimproved dirt road (leading to four barn-like structures) and an unnamed medium-duty road (known locally as Roblar Road), T6N, R8W, on the Two Rock map.

(17) Proceed south 0.5 mile to an unnamed 678-foot elevation peak just slightly north of the intersection of T5N and T6N, R8W, on the Two Rock map.

(18) Proceed east-southeast 0.8 mile to an unnamed peak with a 599-foot elevation, T5N, R8W, on the Two Rock map.

(19) Proceed east-southeast 0.7 mile to an unnamed peak with a 604-foot elevation, T5N, R8W, on the Two Rock map.

(20) Proceed east-southeast 0.9 mile to the intersection of a short, unnamed light-duty road leading past a group of barn-like structures and a medium duty road known locally as Meacham Road, and cross onto the Cotati map T5N, R8W.

(21) Proceed north-northeast 0.75 mile to the intersection of Meacham and Stony Point Roads, T5N, R8W, on the Cotati map.

(22) Proceed southeast 1.1 miles along Stony Point Road to the point where the 200-foot elevation contour line intersects Stony Point Road, T5N, R8W, on the Cotati map.

(23) Proceed north-northeast 0.5 mile to the point where an unnamed intermittent stream intersects U.S. 101 (and to the point where the land grant line also crosses), T5N, R8W, on the Cotati map.

(24) Proceed north 4.25 miles along U.S. 101 to the point where Santa Rosa Avenue exits U.S. 101 (approximately 0.5 mile north of the Wilfred Avenue overpass) T6N, R8W, on the Cotati map.

(25) Proceed north 1.1 miles along Santa Rosa Avenue to its intersection with Todd Road, crossing onto the Santa Rosa map, T6N, R8W, on the Santa Rosa map.

* * * * *

3. Section 9.70 is amended:

a. By revising paragraph (b); and

b. In paragraph (c), by revising the introductory text and paragraphs (c)(1) through (c)(5), by redesignating paragraphs (c)(6) through (c)(26) as paragraphs (c)(23) through (c)(43), and by adding new paragraphs (c)(6) through (c)(22).

The revisions and addition read as follows:

§ 9.70 Northern Sonoma.

* * * * *

(b) Approved Maps. The nine United States Geological Survey (USGS) maps used to determine the boundary of the Northern Sonoma viticultural area are titled:

(1) Sonoma County, California, scale 1:100 000, 1970;

(2) Asti Quadrangle, California, scale 1:24 000, 1959, Photorevised 1978;

(3) Jimtown Quadrangle, California—Sonoma County; scale 1:24 000, 1955, Photorevised 1975;

(4) Camp Meeker Quadrangle, California—Sonoma Co., scale 1:24 000, 1954, Photorevised 1971;

(5) Valley Ford Quadrangle, California, scale 1:24 000, 1954, Photorevised 1971;

(6) Two Rock Quadrangle, California, scale 1:24 000, 1954, Photorevised 1971;

(7) Cotati Quadrangle, California—Sonoma Co., scale 1:24 000, 1954, Photorevised 1980;

(8) Santa Rosa Quadrangle, California—Sonoma Co., scale 1:24 000, 1954, Photorevised 1980; and

(9) Mark West Springs Quadrangle, California, scale 1:24 000, 1993.

(c) Boundary. The Northern Sonoma viticultural area is located in Sonoma County, California. The boundary description includes (in parentheses) the local names of roads that are not identified by name on the map.

(1) The beginning point is on the USGS Sonoma County, California, map in the town of Monte Rio at the intersection of the Russian River and a secondary highway (Bohemian Highway);

(2) The boundary follows this secondary highway (Bohemian Highway), southeasterly parallel to Dutch Bill Creek, through the towns of Camp Meeker, Occidental, and Freestone, and then northeasterly to its intersection with an unnamed secondary highway, known locally as Bodega Road (also designated as State Highway 12), at BM 214, as shown on the Valley Ford Quadrangle map.

(3) The boundary follows Bodega Road (State Highway 12) northeasterly 0.9 miles on the Valley Ford map; then onto the Camp Meeker map to its intersection, at BM 486, with Jonive Road to the north and an unnamed light duty road to the south (Barnett Valley Road), T6N, R9W, on the Camp Meeker map.

(4) The boundary follows Barnett Valley Road south 2.2 miles, then east crossing over the Valley Ford map and onto the Two Rock map, to its intersection with Burnside Road, section 17, T6N, R9W.

(5) The boundary follows Burnside Road southeast 3.3 miles to its intersection with an unnamed medium duty road at BM 375, T6N, R9W.

(6) The boundary follows a straight line southeast 0.6 mile to an unnamed 610-foot elevation peak, 1.5 miles southwest of Canfield School, T6N, R9W.

(7) The boundary follows a straight line east-southeast 0.75 mile to an unnamed 641-foot elevation peak 1.4 miles south-southwest of Canfield School, T6N, R9W.

(8) The boundary follows a straight line northeast 0.85 mile to its intersection with an unnamed intermittent stream and Canfield Road; then continues on the straight line northeast 0.3 mile to its intersection with the common Ranges 8 and 9 line, just west of an unnamed unimproved dirt road, T6N.

(9) The boundary follows a straight line southeast 0.5 mile, crossing over the end of an unnamed, unimproved dirt road to an unnamed 524-foot elevation peak, T6N, R8W.

(10) The boundary follows a straight line southeast 0.75 mile to the intersection of an unnamed unimproved dirt road (leading to four barn-like structures) and an unnamed medium-duty road (known locally as Roblar Road), T6N, R8W.

(11) The boundary follows a straight line south 0.5 mile to an unnamed 678-foot elevation peak, T6N, R8W.

(12) The boundary follows a straight line east-southeast 0.8 mile to an unnamed peak with a 599-foot elevation, T5N, R8W.

(13) The boundary follows a straight line east-southeast 0.7 mile to an unnamed peak with a 604-foot elevation, T5N, R8W.

(14) The boundary follows a straight line east-southeast 0.9 mile, onto the Cotati map, to the intersection of a short, unnamed light-duty road leading past a group of barn-like structures and a medium duty road known locally as Meacham Road, T5N, R8W.

(15) The boundary follows Meacham Road north-northeast 0.75 mile to its intersection with Stony Point Road, T5N, R8W.

(16) The boundary follows Stony Point Road southeast 1.1 miles to the point where the 200-foot elevation contour line intersects Stony Point Road, T5N, R8W.

(17) The boundary follows a straight line north-northeast 0.5 mile to the point where an unnamed intermittent stream intersects U.S. 101 (and to the point where the Roblar de la Miseria land grant line crosses), T5N, R8W.

(18) The boundary follows U.S. Route 101 north 4.25 miles to the point where Santa Rosa Avenue exits U.S. Route 101 to the east (approximately 0.5 mile north of the Wilfred Avenue overpass) T6N, R8W.

(19) The boundary follows Santa Rosa Avenue north 1.1 miles to its intersection with Todd Road, crossing on to the Santa Rosa map, T6N, R8W.

(20) The boundary follows Santa Rosa Avenue generally north 5.8 miles, eventually becoming Mendocino Avenue, to its intersection with an unnamed secondary road, locally known as Bicentennial Way, 0.3 mile north-northwest of BM 161 on Mendocino Avenue, section 11, T7N, R8W.

(21) The boundary follows a straight line north 2.5 miles crossing over the 906-foot elevation peak in section 35, T8N, R8W, crossing onto the Mark West Springs map, to its intersection with Mark West Springs Road and the meandering 280-foot elevation line in section 26, T6N, R8W.

(22) The boundary follows the unnamed secondary highway, Mark West Springs Road, on the Sonoma County map, generally north and east, eventually turning into Porter Road and then to Petrified Forest Road, passing BM 545, the town of Mark West Springs, BM 495, and the Petrified Forest area, to its intersection with the Sonoma County-Napa County line.

* * * * *

Signed: August 13, 2008.
Vicky McDowell,
Acting Administrator.

[FR Doc. E8-19327 Filed 8-19-08; 8:45 am]

BILLING CODE 4810-31-P